DEPARTMENT OF COMMERCE

National Telecommunications and Information Administration

[Docket No. 200521-0144]

RIN 0660-XC047

The National Strategy to Secure 5G Implementation Plan

AGENCY: National Telecommunications and Information Administration, U.S. Department of Commerce.

ACTION: Notice; request for public comments.

SUMMARY: In accordance with the Secure 5G and Beyond Act of 2020, the National Telecommunications and Information Administration (NTIA), on behalf of the Executive Branch, is requesting comments to inform the development of an Implementation Plan for the National Strategy to Secure 5G.

DATES: Comments must be received on or before June 18, 2020.

ADDRESSES: Written comments identified by Docket No. 200521-0144 may be submitted by email to secure5G@ntia.gov. Comments submitted by email should be machine-readable and should not be copy-protected. Written comments also may be submitted by mail to the National Telecommunications and Information Administration, U.S. Department of Commerce, 1401 Constitution Avenue NW, Room 4725, Attn: Secure 5G RFC, Washington, DC 20230.

FOR FURTHER INFORMATION CONTACT: Travis Hall, Telecommunications Policy Specialist, Office of Policy Analysis and Development, National Telecommunications and Information Administration, U.S. Department of Commerce, 1401 Constitution Avenue NW, Room 4725, Washington, DC 20230; telephone: 202-482-3522; email: thall@ntia.gov. For media inquiries: Stephen Yusko, Office of Public Affairs, National Telecommunications and Information Administration, U.S. Department of Commerce, 1401 Constitution Avenue NW, Room 4897, Washington, DC 20230; telephone: (202) 482-7002; email: press@ntia.gov.

SUPPLEMENTARY INFORMATION: Background: On March 23, 2020, the President signed into law the Secure 5G and Beyond Act of 2020 (Act), which requires the development of a strategy to ensure the security of next generation wireless communications systems and infrastructure.¹ The Act further requires the development of an Implementation Plan within 180 days of enactment, and lays out 18 actions to be included in this plan.²

¹ Secure 5G and Beyond Act of 2020, Public Law No. 116-129, 134 Stat. 223-227 (2020) (Act).

² Id. at § 4, 134 Stat. at 224.

On the same day, and in fulfilment of the requirement established by the Act, the Administration published the National Strategy to Secure 5G (Strategy).³ In so doing, the Administration recognizes both the importance of fifth generation wireless technologies (5G) to the future prosperity and security of the United States, as well as the risks and vulnerabilities posed by malicious actors that will seek to exploit these technologies. The Strategy is focused on four lines of effort: (1) Facilitating domestic 5G rollout; (2) assessing the cybersecurity risks to and identifying core security principles of 5G capabilities and infrastructure; (3) addressing risks to United States economic and national security during development and deployment of 5G infrastructure worldwide; and (4) promoting responsible global development and deployment of secure and reliable 5G infrastructure. In accordance with both the Act and the Strategy, the National Security and National Economic Councils are developing an Implementation Plan, in consultation with relevant departments and agencies, to execute the actions identified to secure 5G infrastructure and development. The Implementation Plan will follow the four lines of effort identified in the Strategy, laying out specific activities to achieve the goals of the Strategy.

³ See The National Strategy to Secure 5G of the United States of America, March 2020, available at https://www.whitehouse.gov/wp-content/uploads/2020/03/National-Strategy-5G-Final.pdf.

Request for Comment: Through this Request for Comments, NTIA is seeking public input to inform the development of the Implementation Plan. NTIA is looking for information as to how the U.S. Government can best facilitate the accelerated development and rollout of 5G infrastructure in the United States and with our international partners, and lay the groundwork for innovation beyond 5G. Specifically, NTIA is seeking feedback on the following questions, organized by the four lines of effort laid out by the Strategy.

Questions

Line of Effort One: Facilitate Domestic 5G Rollout.

(1) How can the United States (U.S.) Government best facilitate the domestic rollout of 5G technologies and the development of a robust domestic 5G commercial ecosystem (e.g., equipment manufacturers, chip manufacturers, software developers, cloud providers, system integrators, network providers)?

(2) How can the U.S. Government best foster and promote the research, development, testing, and evaluation of new technologies and architectures?

(3) What steps can the U.S. Government take to further motivate the domestic-based 5G commercial ecosystem to increase 5G research, development, and testing?

(4) What areas of research and development should the U.S. Government prioritize to achieve and maintain U.S. leadership in 5G? How can the U.S. Government create an environment that encourages private sector investment in 5G technologies and beyond? If possible, identify specific goals that the U.S. Government should pursue as part of its research, development, and testing strategy.

Line of Effort Two: Assess Risks to and Identify Core Security Principles of 5G Infrastructure.

(1) What factors should the U.S. Government consider in the development of core security principles for 5G infrastructure?

(2) What factors should the U.S. Government consider when evaluating the trustworthiness or potential security gaps in U.S. 5G infrastructure, including the 5G infrastructure supply chain? What are the gaps?

(3) What constitutes a useful and verifiable security control regime? What role should security requirements play, and what mechanisms can be used to ensure these security requirements are adopted?

(4) Are there stakeholder-driven approaches that the U.S. Government should consider to promote adoption of policies, requirements, guidelines, and procurement strategies necessary to establish secure, effective, and reliable 5G infrastructure?

(5) Is there a need for incentives to address security gaps in 5G infrastructure? If so, what types of incentives should the U.S. Government consider in addressing these gaps? Are there incentive models that have proven successful that could be applied to 5G infrastructure security?

Line of Effort Three: Address Risks to U.S. Economic and National Security during Development and Deployment of 5G Infrastructure Worldwide.

(1) What opportunities does the deployment of 5G networks worldwide create for U.S. companies?

(2) How can the U.S. Government best address the economic and national security risks presented by the use of 5G worldwide?

(3) How should the U.S. Government best promote 5G vendor diversity and foster market competition?

(4) What incentives and other policy options may best close or narrow any security gaps and ensure the economic viability of the United States domestic industrial base, including research and development in critical technologies and workforce development in 5G and beyond?

Line of Effort Four: Promote Responsible Global Development and Deployment of 5G.

(1) How can the U.S. Government best lead the responsible international development and deployment of 5G technology and promote the availability of secure and reliable equipment and services in the market?

(2) How can the U.S. Government best encourage and support U.S. private sector participation in standards development for 5G technologies?

(3) What tools or approaches could be used to mitigate risk from other countries' 5G infrastructure? How should the U.S. Government measure success in this activity?

(4) Are there market or other incentives the U.S. Government should promote or foster to encourage international cooperation around secure and trusted 5G infrastructure deployment?

(5) Both the Department of Commerce and the Federal Communications Commission (FCC) have rulemakings underway to address the security of the telecommunications infrastructure supply chain.⁴ Are there other models that identify and manage risks that might be valuable to consider?

⁴ U.S. Department of Commerce, Securing the Information and Communications Technology and Services Supply Chain, Proposed Rule, 84 FR 65316 (Nov. 27, 2019) (implementing Exec. Order No. 13,873, Securing the Information and Communications Technology and Services Supply Chain, 84 FR 22,689 (May 15, 2019)), available at https://www.federalregister.gov/documents/2019/05/17/2019-10538/securing-the-information-and-communications-technology-and-services-supply-chain; see also FCC, Protecting Against National Security Threats to the Communications Supply Chain Through FCC Programs, Report and Order, Further Notice of Proposed Rulemaking, and Order, 34 FCC Rcd 11423 (2019), available at https://docs.fcc.gov/public/attachments/FCC-19-121A1.pdf.

(6) What other actions should the U.S. Government take to fulfill the policy goals outlined in the Act and the Strategy?

Instructions for Commenters: This is a general solicitation of comments from the public. We invite comments on the full range of questions presented by this RFC and on issues that are not specifically raised. Commenters are encouraged to address any or all of the questions above. Comments that contain references to specific court cases, studies, and/or research should include copies of the referenced materials along with the submitted comments. Commenters should include the name of the person or organization filing the comment, as well as a page number on each page of the submissions. All comments received are a part of the public record and will generally be posted on the NTIA website, https://www.ntia.gov/, without change. All personal identifying information (for example, name or address) voluntarily submitted by the commenter may be publicly accessible. Do not submit confidential business information or otherwise sensitive or protected information.

Dated: May 21, 2020.
Kathy Smith,
Chief Counsel, National Telecommunications and Information Administration.

[FR Doc. 2020-11398 Filed 5-27-20; 8:45 am]

BILLING CODE 3510-60-P